SECURITIES AND EXCHANGE COMMISSION

[Investment Company Act Release No. 28650A; 812-13538]

ING Investments, LLC, et al.; Notice of Application; Correction

Correction

In the Federal Register of March 24, 2009, in FR Doc. E9-6391, on page 12407 of volume 74, in the second column, the date should read March 17, 2009.

Dated: April 8, 2009.
Florence E. Harmon,
Deputy Secretary.

[FR Doc. E9-8427 Filed 4-13-09; 8:45 am]

BILLING CODE 8010-01-P